ENVIRONMENTAL PROTECTION AGENCY

40 CFR Part 52

[EPA-HQ-OAR-2025-0192; FRL-12716-03-OAR]

Interstate Transport Plan Review for the 2015 Ozone NAAQS

AGENCY: Environmental Protection Agency (EPA).

ACTION: Proposed rule; extension of comment period.

SUMMARY: The Environmental Protection Agency (EPA) is extending the comment period for the proposed “Interstate Transport Plan Review for the 2015 Ozone NAAQS,” published in the Federal Register on January 30, 2026. The current comment period for the proposed rule is set to end on March 2, 2026. The EPA has received numerous requests to extend the comment period. The EPA is extending the comment period for the proposed action to March 23, 2026.

DATES: The comment period for the proposed rule published on January 30, 2026, at 91 FR 4026 is extended. Comments must be received on or before March 23, 2026.

ADDRESSES: You may send comments, identified by Docket ID No. EPA-HQ-OAR-2025-0192, by any of the following methods:

• Federal eRulemaking Portal: www.regulations.gov (our preferred method). Follow the online instructions for submitting comments.

• Email: a-and-r-docket@epa.gov. Include Docket ID No. EPA-HQ-OAR-2025-0192 in the subject line of the message.

• Mail: U.S. Environmental Protection Agency, EPA Docket Center, Docket ID No. EPA-HQ-OAR-2025-0192, Mail Code 28221T, 1200 Pennsylvania Avenue NW, Washington, DC 20460.

• Hand Delivery or Courier: EPA Docket Center, WJC West Building, Room 3334, 1301 Constitution Avenue NW, Washington, DC 20004. The Docket Center's hours of operation are 8:30 a.m.-4:30 p.m., Monday-Friday (except Federal holidays).

Instructions: All submissions received must include the Docket ID No. for this proposed rulemaking. Comments received may be posted without change to www.regulations.gov, including personal information provided.

FOR FURTHER INFORMATION CONTACT: For information about this proposed rule, contact Gwyndolyn Sofka, Air Quality Planning Division, Office of State Air Partnerships (C539-04), Environmental Protection Agency, 109 TW Alexander Drive, Research Triangle Park, NC 27711; telephone number (919) 541-5121; email address: sofka.gwyndolyn@epa.gov or Thomas Uher, Air Quality Planning Division, Office of State Air Partnerships (C539-04), Environmental Protection Agency, 109 TW Alexander Drive, Research Triangle Park, NC 27711; telephone number: (919) 541-5534; email address: uher.thomas@epa.gov.

SUPPLEMENTARY INFORMATION: On Friday, January 30, 2026, the EPA published the Interstate Transport Plan Review for the 2015 Ozone NAAQS proposed rule in the Federal Register. The comment period for the proposed rule was for 30 days, ending on March 2, 2026. The EPA received numerous comments requesting that the Agency extend the comment period for the proposed rule. To ensure the public has sufficient time to review the proposed action, the EPA is extending the comment period by 21 days, ending on March 23, 2026.

Authority: The statutory authority for this action is provided by the Clean Air Act (CAA) as amended (42 U.S.C. 7401 et seq.). CAA section 110(a)(2)(D)(i)(I), also known as the “good neighbor” or “interstate transport” provision, provides the primary basis for the proposed action, for which we are extending the comment period an additional 21 days.

Dated: February 26, 2026.
Scott Mathias,
Director, Office of State Air Partnerships.

[FR Doc. 2026-04151 Filed 3-2-26; 8:45 am]

BILLING CODE 6560-50-P